DEPARTMENT OF THE INTERIOR

Bureau of Reclamation

[Arizona, INT-DES 01-38]

Reach 11 Recreation Master Plan, Central Arizona Project, Arizona

AGENCY: Bureau of Reclamation, Interior.

ACTION: Notice of availability of and public hearing for a draft environmental impact statement (EIS).

SUMMARY: Pursuant to the National Environmental Policy Act (NEPA) of 1969, as amended, and the Council on Environmental Quality's Regulations for Implementing the Procedural Provisions of NEPA, the Bureau of Reclamation (Reclamation), in conjunction with the City of Phoenix (City), has prepared a draft EIS for a Recreation Master Plan for the Reach 11 Recreation Area (Reach 11), located in the northeast portion of the City, Maricopa County, Arizona. The draft EIS describes the anticipated environmental effects associated with the proposed approval and implementation of a recreation master plan for a 1,500-acre area adjacent to the Central Arizona Project (CAP) canal, between Cave Creek and Scottsdale roads. The land is owned by Reclamation and is managed for recreational purposes by the City's Recreation and Library Department (PRLD) under a 1986 land use agreement. The draft EIS describes in detail a proposed recreation master plan and two action alternative master plans that could be approved and implemented. A No Action Alternative is also described, which provides a baseline for comparing the impacts of the three action alternatives. A public hearing will be held to receive comments from interested individuals and organizations regarding the adequacy of the draft EIS in describing the anticipated environmental impacts from the proposed project.

DATES: A public hearing is scheduled for December 11, 2001, from 6:30 to 9:30 p.m. A 60-day public review and comment period begins with the filing of the draft EIS with the Environmental Protection Agency. Written comments must be received no later than January 18, 2002.

ADDRESSES: The public hearing will be held at Paradise Valley Community Center, 17402 North 40th Street, Phoenix, Arizona.

Send written comments to Mr. Bruce Ellis, Chief, Environmental Resource Management Division, Bureau of Reclamation, Phoenix Area Office (PXAO-1500), PO Box 81169,Phoenix, AZ 85069-1169; fax number (602) 216-4006.

The draft EIS document is available on the Internet at http://www.apo.lc.usbr.gov. A copy of the draft EIS is also available upon request from Ms. Janice Kjesbo, Bureau of Reclamation, Phoenix Area Office (PXAO-1500), PO Box 81169, Phoenix, AZ 85069-1169, telephone (602) 216-3864, faxogram (602) 216-4006. A copy of the draft EIS is also available for public inspection and review at the libraries listed under Supplementary Information below.

FOR FURTHER INFORMATION CONTACT: Questions regarding the draft EIS should be directed to Ms. Sandra Eto, Bureau of Reclamation, Phoenix Area Office (PXAO-1500), PO Box 81169, Phoenix, AZ 85069-1169, telephone (602) 216-3857.

SUPPLEMENTARY INFORMATION: Reclamation is proposing to approve a new Recreation Master Plan for Reach 11, managed for recreational purposes by the PRLD. The current master plan was approved in 1987. The City and Reclamation determined a comprehensive planning effort for a new master plan should be carried out, due to the major population growth that has occurred and future growth anticipated for the area. This effort included conducting a recreation needs assessment to inventory existing facilities in the vicinity of Reach 11, and evaluating needs based upon established park standards, existing capacity, and public interest in or opposition to various recreation uses. The purpose and need for a new Recreation Master Plan is to optimize recreational use of Reach 11 based upon the needs of the City and community, while ensuring compatibility with the primary flood control function of Reach 11. A master plan would accommodate and respect the full range of current and future recreation demands of this growing area of Phoenix, Arizona. The draft EIS considers three alternative master plan scenarios. All three provide a level of development established for a City district park. Under the Proposed Action, high-demand recreation needs would be balanced with passive recreation uses and maintenance of quality habitat areas. Two other alternative action alternatives are considered: one that would provide less active recreation-oriented development, and that emphasizes passive recreation-oriented activities (Alternative 1), and one that would maximize development of active-recreation oriented recreation facilities (Alternative 2). The No Action Alternative assumes the existing 1987 master plan, (which does not meet current PRLD district park standards), would continue to be implemented. The alternative ultimately selected and implemented is expected to be developed in phases by PRLD, as funding becomes available.

Copies of the draft EIS are available for public inspection and review at the following locations:

• Department of the Interior, Natural Resources Library, 1849 C Street, NW., Washington, DC 20240

• Bureau of Reclamation, Denver Office Library, Building 67, Room 167, Denver Federal Center, 6th and Kipling, Denver, CO 80225

• Arizona Department of Library Archives and Public Records, 1700 W. Washington St., Phoenix, AZ 85007

• North Central Regional County Library, 17811 N. 32nd St., Phoenix, AZ 85032

• Phoenix Public Library (Burton Barr Central), 1221 N. Central Ave., Phoenix, AZ 85004

• Government Document Service, Arizona State University, Tempe, AZ 85287

• Arizona State University—West Library, 4701 W. Thunderbird Rd., Glendale, AZ 85306

Written comments received by Reclamation become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 24, 2001.
V. LeGrand Neilsen,
Deputy Regional Director.

[FR Doc. 01-27881 Filed 11-6-01; 8:45 am]

BILLING CODE 4310-MN-P